DEPARTMENT OF DEFENSE

Department of the Army; Army Corps of Engineers

Notice of Intent To Prepare a Joint Environmental Impact Statement and Environmental Impact Report for the Lower San Joaquin River Feasibility Study

AGENCY: Department of the Army, U.S. Army Corps of Engineers; DOD.

ACTION: Notice of intent.

SUMMARY: The action being taken is the preparation of a joint environmental impact statement/environmental impact report (EIS/EIR) for the Lower San Joaquin River Feasibility Study (LSJRFS). The EIS/EIR will be prepared in accordance with the National Environmental Policy Act (NEPA) and the California Environmental Quality Act (CEQA). The U.S. Army Corps of Engineers (USACE) will serve as lead agency for compliance with NEPA, and the San Joaquin Area Flood Control Agency (SJAFCA) will serve as lead agency for compliance with CEQA. The LSJRFS will evaluate alternatives, including a locally preferred plan, for providing flood damage reduction and ecosystem restoration along the lower (northern) portion of the San Joaquin River system in the Central Valley of California. The approximate area of the proposed action and analysis is identified in Figure 1.

DATES: Written comments regarding the scope of the environmental analysis should be received at (see ADDRESSES) by February 15, 2010.

ADDRESSES: Written comments concerning this study and requests to be included on the LSJRFS mailing list should be submitted to Mr. Doug Edwards, U.S. Army Corps of Engineers, Sacramento District, Attn: Planning Division (CESPK-PD-R), 1325 J Street, Sacramento, CA 95814.

FOR FURTHER INFORMATION CONTACT: Mr. Doug Edwards via telephone at (916) 557-7062, e-mail at Douglas.M.Edwards@usace.army.mil, or regular mail at (see ADDRESSES).

SUPPLEMENTARY INFORMATION: 1. Proposed Action. USACE is preparing an EIS/EIR to analyze the environmental impacts associated with a range of alternatives for providing flood damage reduction and ecosystem restoration along the lower (northern) portion of the San Joaquin River system (Figure 1).

2. Alternatives. The EIS/EIR will address an array of alternatives for providing flood risk management alternatives that are intended to reduce flood risk within the project area. Alternatives analyzed during the investigation may include, but are not limited to, a combination of one or more of the following flood damage reduction measures: adding, modifying, and/or re-regulating storage on major tributaries; new transitory storage within flood plains, increasing conveyance by raising levees; widening channels and floodway areas; dredging; and constructing or modifying weirs and bypasses; and various floodplain management measures. Ecosystem restoration measures may include, but are not limited to, restoring riparian, wetland, and floodplain habitats, and/or constructing setback levees for habitat restoration.

3. Scoping Process.

a. A public scoping meeting will be held to present an overview of the LSJRFS and the EIS/EIR process, and to afford all interested parties with an opportunity to provide comments regarding the scope of analysis and potential alternatives. The public scoping meeting will be held at the University of Pacific, Regent's Dining Room, 3601 Pacific Avenue, Stockton, CA on January 27, 2010, from 6-8 p.m.

b. Potentially significant issues to be analyzed in depth in the EIS/EIR include project specific and cumulative effects on hydraulics, wetlands and other waters of the U.S., vegetation and wildlife resources, special-status species, esthetics, cultural resources, recreation, land use, fisheries, water quality, air quality, and transportation.

c. USACE is consulting with the State Historic Preservation Officer to comply with the National Historic Preservation Act and with the U.S. Fish and Wildlife Service and National Marine Fisheries Service to comply with the Endangered Species Act. USACE is also coordinating with the U.S. Fish and Wildlife Service to comply with the Fish and Wildlife Coordination Act.

d. A 45-day public review period will be provided for all interested parties individuals and agencies to review and comment on the draft EIS/EIR. All interested parties are encouraged to respond to this notice and provide a current address if they wish to be notified of the draft EIS/EIR circulation.

4. Availability. The draft EIS/EIR is currently scheduled to be available for public review and comment in 2014.

Dated: December 29, 2009.
Thomas Chapman,
COL, EN Commanding.

[FR Doc. 2010-686 Filed 1-14-10; 8:45 am]

BILLING CODE 3720-58-P